DEPARTMENT OF STATE

[Public Notice 9905]

Proposal To Extend Cultural Property Agreement Between the United States and Mali

AGENCY: Department of State.

ACTION: Notice.

SUMMARY: The Government of the Republic of Mali has informed the Government of the United States of America of its interest in an extension of the Agreement Between the Government of United States of America and the Government of the Republic of Mali Concerning the Imposition of Import Restrictions on Archaeological Material from Mali from the Paleolithic Era (Stone Age) to Approximately the Mid-Eighteenth Century.

FOR FURTHER INFORMATION CONTACT: The Cultural Heritage Center, Bureau of Educational and Cultural Affairs: 202-632-6301; CulProp@state.gov.

SUPPLEMENTARY INFORMATION: Pursuant to the authority delegated to the Assistant Secretary of State for Educational and Cultural Affairs, and pursuant to 19 U.S.C. 2602(f)(1), the Department proposes an extension of the Agreement with the Government of Mali.

A copy of the Agreement, the Designated List of categories of material restricted from import into the United States, and related information can be found at the Cultural Heritage Center Web site: http://culturalheritage.state.gov.

Mark Taplin,
Acting Assistant Secretary, Bureau of Educational and Cultural Affairs, U.S. Department of State.

[FR Doc. 2017-04962 Filed 3-13-17; 8:45 am]

BILLING CODE 4710-05-P